Proclamation 7480 of October 5, 2001

Fire Prevention Week, 2001

By the President of the United States of America

A Proclamation

The well-being of our Nation's citizens requires that families, communities, emergency workers, and health professionals work together to ensure the highest levels of public safety. This goal is particularly important with respect to fire prevention. The 2000 National Fire Experience Survey, conducted by the National Fire Protection Association (NFPA), reveals that fire claimed more than 4,000 American lives last year. In 2000, fire killed someone every 130 minutes and injured someone every 24 minutes. Fire also takes a significant economic toll on America, accounting for more than $11 billion in property loss last year.

In the United States, fires caused by cooking, heating, or electricity amount to almost half of all home fires. These accidental fires, though common, are also among the most preventable. Their high rates of occurrence point to the vital importance of safety and knowledge in helping to prevent these types of fires and thereby avoid the tragic deaths and serious injuries that they can cause.

This year marks the annual observance of Fire Prevention Week, sponsored by the National Fire Protection Association. The event's theme, “Cover the Bases and Strike Out Fire,” encourages children and families to take an active role in preventing home fires and the injuries and deaths they cause, by conducting home fire safety inspections and preparing and practicing home fire drills. The NFPA is joining forces with the Federal Emergency Management Agency, through the United States Fire Administration, and with fire departments throughout the country to raise awareness of the leading causes of home fires and encourage the actions that may be taken to prevent them. I urge all Americans to learn more about fire prevention and to take steps to better ensure the safety of our homes, places of work, and other public structures.

During this year's observance, I also call on Americans to join me in expressing appreciation for the devotion and dedication of our Nation's firefighters and other emergency response personnel. These brave men and women provide the first line of emergency response to a multitude of disasters and risk their own security and well-being to save the lives of others. As recent events in our Nation have demonstrated, these fine Americans truly exemplify selfless service and heroism. They serve to make our towns, cities, and communities safer places for all.

NOW, THEREFORE, I, GEORGE W. BUSH, President of the United States of America, by virtue of the authority vested in me by the Constitution and laws of the United States, do hereby proclaim October 7 through October 13, 2001, as Fire Prevention Week. I call upon the people of the United States to observe this day with appropriate programs and activities and to renew efforts to prevent fires and their tragic consequences for human health and safety.

IN WITNESS WHEREOF, I have hereunto set my hand this fifth day of October, in the year of our Lord two thousand one, and of the Independence of the United States of America the two hundred and twenty-sixth.

B

[FR Doc. 01-25675

Filed 10-9-01; 12:11 pm]

Billing code 3195-01-P